NUCLEAR REGULATORY COMMISSION

[Docket Nos.: 070-00784 and 040-07044]

Notice Consideration of the Approval of the Site Remediation Plan for the Formerly Licensed Union Carbide Facility in Lawrenceburg, TN

SUMMARY: The U. S. Nuclear Regulatory Commission (NRC) is considering a Remediation (Decommissioning) Plan (RDP) submitted by UCAR Carbon Company, Inc. (UCAR) to authorize decommissioning of its formerly licensed Union Carbide Corporation (UCC) facility in Lawrenceburg, Tennessee.

SUPPLEMENTARY INFORMATION: On August 19, 1998, UCAR submitted the RDP of its formerly licensed facility in Lawrenceburg, Tennessee. The RDP summarized the decommissioning activities that will be undertaken to remediate the contamination identified in three buildings, on an incinerator pad, and in the surrounding outdoor areas. Radioactive contamination at the UCC facility consists of building structures and soil contaminated with enriched uranium and thorium resulting from licensed operation that occurred from 1963 to 1974.

NRC will require the licensee to remediate the UCC facility to meet NRC's decommissioning criteria, and during the decommissioning activities, to maintain effluents and doses within NRC requirements and as low as reasonably achievable.

Prior to approving the RDP, NRC will have made findings required by the Atomic Energy Act of 1954, as amended, and NRC's regulations. These findings will be documented in a Safety Evaluation Report and an Environmental Assessment.

UCAR has submitted the RDP and NRC hereby provides notice that the RDP is under review. Please address any questions or comments to the information contact person listed below.

The RDP for the formerly licensed UCC facility, Lawrenceburg, Tennessee, License Nos. SNM-00724 (Terminated) and SMB-00720 (Terminated), is available for inspection at the NRC's Public Document Room, 2120 L Street NW, Washington, DC 20555.

FOR FURTHER INFORMATION CONTACT: Rebecca Tadesse, Decommissioning Branch, Division of Waste Management, Office of Nuclear Material Safety and Safeguards, at (301) 415-6221 or e-mail rxt@nrc.gov.

Dated at Rockville, Maryland, this 24th day of February 2000.
For the Nuclear Regulatory Commission.
Michael C. Layton,
Acting Chief, Decommissioning Branch, Division of Waste Management, Office of Nuclear Material Safety and Safeguards.

[FR Doc. 00-4886 Filed 2-29-00; 8:45 am]

BILLING CODE 7590-01-P